DEPARTMENT OF THE INTERIOR

Fish and Wildlife Service

[FWS-R6-R-2015-N023; FXRS12610600000-156-FF06R06000]

Rocky Mountain Arsenal National Wildlife Refuge, Commerce City, CO; Draft Comprehensive Conservation Plan and Environmental Impact Statement

AGENCY: Fish and Wildlife Service, Interior.

ACTION: Notice of availability; request for comments.

SUMMARY: We, the U.S. Fish and Wildlife Service (Service), announce the availability of a draft comprehensive conservation plan (CCP) and environmental impact statement (EIS) for the Rocky Mountain Arsenal National Wildlife Refuge (refuge). In these documents, we describe alternatives, including our proposed action alternative, to manage the refuge for the 15 years following approval of the final CCP.

DATES: To ensure consideration, please send written comments by July 6, 2015. We will hold public meetings; for information on the public meetings or to request reasonable accommodations, please see Public Meetings in the SUPPLEMENTARY INFORMATION section.

ADDRESSES: You may submit your comments or requests for copies or more information by one of the following methods. You may request hard copies or a CD-ROM of the documents.

Email: rockymountainarsenal@fws.gov. Include “Rocky Mountain Arsenal National Wildlife Refuge draft CCP and EIS” in the subject line of the message.

U.S. Mail: Bernardo Garza, Planning Team Leader, U.S. Fish and Wildlife Service, Branch of Refuge Planning, P.O. Box 25486, Denver Federal Center, Denver, CO 80225-0486.

In-Person Drop-off: You may drop off comments during regular business hours at the above address, or at the refuge administrative office located at 6550 Gateway Road, Building 121, Commerce City, CO 80022.

Document Request: A copy of the draft CCP and EIS may be obtained by writing to U.S. Fish and Wildlife Service, Branch of Refuge Planning, 134 Union Boulevard, Suite 300, Lakewood, CO 80228; or by download from http://www.fws.gov/mountain-prairie/planning/ccp/co/rkm/rkm.html.

FOR FURTHER INFORMATION CONTACT: Bernardo Garza, 303-236-4377, (phone) or bernardo_garza@fws.gov (email); or Toni Griffin, 303-236-4378 (phone), P.O. Box 25486, Denver Federal Center, Denver, CO 80225-0486.

SUPPLEMENTARY INFORMATION:

Introduction

With this notice we continue the CCP process for the refuge, which we started through a notice in the Federal Register (78 FR 48183; August 7, 2013). This notice complies with our CCP policy to (1) advise other Federal and State agencies, Tribes, and the public of the availability of the draft CCP and EIS for this refuge and (2) to obtain comments on the information provided in the draft CCP and EIS.

Background

The CCP Process

The National Wildlife Refuge System Administration Act of 1966 (16 U.S.C. 668dd-668ee) (Administration Act), as amended by the National Wildlife Refuge System Improvement Act of 1997, requires us to develop a CCP for each unit of the National Wildlife Refuge System (NWRS). The purpose for developing a CCP is to provide the managers of the units of the NWRS with a 15-year plan for achieving the units' purposes and contributing toward the mission of the NWRS, consistent with sound principles of fish and wildlife management, conservation, legal mandates, and our policies. In addition to outlining broad management direction on conserving wildlife and their habitats, CCPs identify compatible wildlife-dependent recreational opportunities available to the public, including, where appropriate, opportunities for hunting, fishing, wildlife observation and photography, and environmental education and interpretation.

The Refuge

In 1992 Congress passed the act that established the refuge to (1) conserve and enhance populations of fish, wildlife, and plants within the refuge, including populations of waterfowl, raptors, passerines, and marsh and water birds; (2) conserve species listed as threatened or endangered under the Endangered Species Act and species that are candidates for such listing; (3) provide maximum fish and wildlife oriented public uses at levels compatible with the conservation and enhancement of wildlife and wildlife habitat; (4) provide opportunities for compatible scientific research; (5) provide opportunities for compatible environmental and land use education; (6) conserve and enhance the land and water of the refuge in a manner that will conserve and enhance the natural diversity of fish, wildlife, plants, and their habitats; (7) protect and enhance the quality of aquatic habitat within the refuge; and, (8) fulfill international treaty obligations of the United States with respect to fish and wildlife and their habitats. The first 4,930 acres of the refuge were transferred by the U.S. Army to the Service on April 21, 2004. Today the refuge encompasses nearly 16,000 acres and is home to more than 468 plant species and 350 wildlife species, including bison, deer, a wide variety of resident and migratory birds and raptors, amphibians, reptiles, fishes and insects. The refuge's habitats include short and mixed grass prairie interspersed with native shrubs, riparian corridors, lacustrine habitats on the refuge reservoirs, and woodlands planted by settlers around historic homesteads.

Public Outreach

We started the public outreach process in June 2013, including four public meetings, mailing planning updates, maintaining a project Web site, and publishing press releases. The comments we received cover topics such as connecting people to nature; improving promotions and outreach; setting clear expectations about the refuge, its programs and resources; maintaining the sense of retreat from the surrounding urban setting; collaborating with partners to improve environmental education opportunities on and off the refuge; interpreting the site's history; building new facilities and expanding refuge programs; and improving access and transportation. We have considered, evaluated, and incorporated all the comments we have received throughout the process.

CCP Alternatives We Are Considering

Our draft CCP and EIS addresses all the issues identified by our agency, our partners, and the public. We developed and evaluated four alternatives to manage the refuge and address the issues. The draft CCP and EIS has a full description of each alternative and the following is a summary of each of them.

Alternative A: No Action

Alternative A is the no-action alternative, which represents the current management of the refuge. This alternative provides the baseline against which to compare the other alternatives. Under this alternative, management activity conducted by the Service would remain the same. The Service would not develop any new management, restoration, or education programs at the refuge. Current habitat and wildlife practices would not be expanded or changed. Funding and staff levels would remain the same with little change in overall trends. Programs would follow the same direction, emphasis, and intensity as they do now. We would continue implementing the habitat restoration and management objectives set in the refuge's Habitat Management Plan and other approved plans to provide for a wide variety of resident and migratory species.

Alternative B: Traditional Refuge

This alternative focuses on providing traditional refuge visitor uses and conveying the importance of conservation, wildlife protection, and the purposes of the Refuge System. Access to the refuge would remain more limited than in alternatives C and D. Wildlife-dependent recreation and community outreach would be minimally expanded. We would continue to manage the refuge's habitat and wildlife as in Alternative A, and would reintroduce to the refuge black-footed ferrets, and self-sustaining populations of greater prairie-chicken and sharp-tailed grouse. We would maintain the same levels of access and transportation as under Alternative A, but would enhance the main refuge entrance, improve visitor services facilities, and seek to improve trail accessibility.

Alternative C: Urban Refuge

The emphasis of this alternative is to increase the visibility of the refuge within the Denver metropolitan area and to welcome many more nontraditional visitors to the refuge. Through an expanded visitor services program, an abundance of instructional programming, and widespread outreach, we would endeavor to connect more people with nature and wildlife. In this alternative, the refuge would be made more accessible to outlying communities with the opening of additional access points and the development of enhanced transportation system. We would work with nontraditional users' trusted avenues of communication to increase outreach success. We would expand our conservation education in surrounding communities and schools, develop youth-specific outreach, and employ social marketing to broaden our agency's reach. We would manage the refuge's habitat and wildlife as in Alternative B, but the reintroduction of greater prairie-chicken and sharp-tailed grouse would be attempted regardless of whether these species' populations are likely to become self-sustaining.

Alternative D: Gateway Refuge

The emphasis of this alternative is to work with partners to increase the visibility of the refuge, the Refuge System, and other public lands in the area. There will be less visitor services programming at the refuge and efforts to engage with the public will be extended to off-site locations. We would work with Denver International Airport to improve physical connections between the refuge and the airport. The trail system within the refuge would be more extensive than under Alternative C. Working with our partners, we would manage access to the perimeter trail and promote trail linkages to the Rocky Mountain Greenway Trail and other regional trails. We would manage the refuge's habitat and wildlife as in Alternative B and we would work with neighboring landowners and state agencies to extend the range of native species.

Public Meetings

Opportunity for public input will be provided at public meetings. The specific dates and times for the public meetings are yet to be determined, but will be announced via local media and a planning update.

Reasonable Accommodations

The U.S. Fish and Wildlife Service is committed to providing access for all participants to our public meetings. Please direct all requests for sign language interpreting services, closed captioning, simultaneous translations, or other accommodation needs to Bernardo Garza, (303) 236-4377, bernardo_garza@fws.gov, or 800-877-8339 (TTY).

Submitting Comments and Issues for Comment

We welcome all comments on the draft CCP and EIS, particularly on how we have addressed those issues identified during the scoping process, such as (1) habitat and wildlife management, (2) reintroduction of the black-footed ferret and other native species, (3) public uses and access, (4) water resources and management, (5) partnerships, outreach and collaboration, and (6) cultural and historic resources. We consider comments substantive if they question, with reasonable basis, the accuracy of the information in the document or the adequacy of the EIS; if they present reasonable alternatives other than those presented in the draft CCP and EIS; or if they provide new or additional information relevant to the EIS.

Next Steps

After this comment period ends, we will analyze the comments and address them in the form of a final CCP and a final EIS.

Public Comments

Before including your address, phone number, email address, or other personal identifying information in your comment, you should be aware that your entire comment—including your personal identifying information—may be made publicly available at any time. While you can ask us in your comment to withhold your personal identifying information from public review, we cannot guarantee that we will be able to do so.

Authority

The environmental review of this project will be conducted in accordance with the requirements of the National Environmental Policy Act (NEPA) of 1969, as amended (42 U.S.C. 4321 et seq.); NEPA Regulations (40 CFR parts 1500-1508, 43 CFR part 46); other appropriate Federal laws and regulations; Executive Order 12996; the National Wildlife Refuge System Administration Act of 1966 (16 U.S.C. 668dd-668ee) (Administration Act), as amended by the National Wildlife Refuge System Improvement Act of 1997; and Service policies and procedures for compliance with those laws and regulations.

Dated: March 16, 2015.
Matt Hogan,
Acting Regional Director, U.S. Fish and Wildlife Service, Mountain-Prairie Region.

[FR Doc. 2015-10326 Filed 5-5-15; 8:45 am]

BILLING CODE 4310-55-P